DEPARTMENT OF THE INTERIOR

Bureau of Land Management

[ID-090-1610-PG; DBG-0200001]

Notice of Public Meeting: Resource Advisory Council to the Lower Snake River District, Bureau of Land Management, U.S. Department of the Interior

AGENCY: Bureau of Land Management, U.S. Department of the Interior.

ACTION: Notice of public meeting.

SUMMARY: In accordance with the Federal Land Policy and Management Act (FLPMA) and the Federal Advisory Committee Act of 1972 (FACA), the U.S. Department of the Interior, Bureau of Land Management (BLM) Lower Snake River District Resource Advisory Council (RAC), will meet as indicated below.

DATES: The meeting will be held February 18, 2003 at the Lower Snake River District Offices, located at 3948 Development Avenue, Boise, Idaho, beginning at 9 a.m. The public comment periods will be held after each topic on the agenda. The meeting is expected to adjourn at 4 p.m.

FOR FURTHER INFORMATION CONTACT: MJ Byrne, Public Affairs Officer and RAC Coordinator, Lower Snake River District, 3948 Development Ave., Boise, ID 83705, Telephone (208) 384-3393.

SUPPLEMENTARY INFORMATION: The 15-member Council advises the Secretary of the Interior, through the Bureau of Land Management, on a variety of planning and management issues associated with public land management in southwestern Idaho. At this meeting, the following topics will be discussed:

• Subgroup reports on Sage Grouse Habitat Management, OHV and Transportation Management, River Recreation and Resource Management Plans, and Fire and Fuels Management;

• RAC Members will discuss and prioritize the issues and focus of the Council for 2003, finalize membership on the subcommittees, and plan for hosting a meeting with the other two BLM District RACs;

• A presentation on drought conditions in the Lower Snake River District, across Idaho and the region.

• An update will be given on the two Resource Management Plans under development in the District, and

• Each of the Field Office Managers will provide an update on current activities and issues in each of their field office areas.

All meetings are open to the public. The public may present written comments to the Council. Each formal Council meeting will also have time allocated for hearing public comments. Depending on the number of persons wishing to comment and time available, the time for individual oral comments may be limited. Individuals who plan to attend and need special assistance, such as sign language interpretation, tour transportation or other reasonable accommodations, should contact the BLM as provided below. Expedited publication is requested to give the public adequate notice. The urgency of having the meeting on the identified date is due to the emergency conditions of public lands caused by the drought.

Dated: January 29, 2003.
Howard Hedrick,
Acting District Manager.

[FR Doc. 03-2493 Filed 1-31-03; 8:45 am]

BILLING CODE 4310-GG-P